DEPARTMENT OF HEALTH AND HUMAN SERVICES

Public Meeting of the Presidential Commission for the Study of Bioethical Issues

AGENCY: Department of Health and Human Services, Office of Public Health and Science, The Presidential Commission for the Study of Bioethical Issues.

ACTION: Notice of meeting.

SUMMARY: The Presidential Commission for the Study of Bioethical Issues will conduct a meeting in September. At this meeting, the Commission will continue discussing the emerging science of synthetic biology, including its potential benefits and risks, and appropriate ethical boundaries and principles.

DATES: The meeting will take place Monday, September 13, 2010, from 8:50 a.m. to approximately 4:15 p.m., and Tuesday, September 14, 2010, from 9 a.m. to approximately noon.

ADDRESSES: Monday, September 13, The Inn at Penn, 3600 Sansom Street, Philadelphia, PA 19104. Phone 215-222-0200. Tuesday, September 14, The Annenberg Public Policy Center, 202 South 36th Street, Philadelphia, PA 19104. Phone 215-898-9400.

FOR FURTHER INFORMATION CONTACT: Ms. Diane M. Gianelli, Director of Communications, The Presidential Commission for the Study of Bioethical Issues, 1425 New York Avenue, NW., Suite C-100, Washington, DC 20005. Telephone: 202/233-3960. E-mail: info@bioethics.gov. Additional information may be obtained by viewing the Web site: http://www.bioethics.gov.

SUPPLEMENTARY INFORMATION: Pursuant to the Federal Advisory Committee Act, Public Law 92-463, 5 U.S.C. App., notice is hereby given that the Presidential Commission for the Study of Bioethical Issues (PCSBI) will be conducting a meeting. The meeting will be held from 8:50 a.m. to approximately 4:15 p.m. on Monday, September 13, 2010, at the Inn at Penn, 3600 Sansom Street, Philadelphia, PA 19104, and from 9 a.m. to approximately noon on Tuesday, September 14, 2010, at The Annenberg Public Policy Center, 202 South 36th Street, Philadelphia, PA 19104. The meeting will be open to the public with attendance limited to space available. The meeting will also be Web cast.

Under authority of Executive Order 13521, dated November 24, 2009, the President established the PCSBI to serve as a public forum and advise him on bioethical issues generated by novel and emerging research in biomedicine and related areas of science and technology. The Commission is charged to identify and promote policies and practices that assure ethically responsible conduct of scientific research, healthcare delivery, and technological innovation. In undertaking these duties, the Commission will examine specific bioethical, legal, and social issues related to potential scientific and technological advances; examine diverse perspectives and possibilities for useful international collaboration on these issues, and recommend legal, regulatory, or policy actions as appropriate. The main agenda items for this meeting involve further discussion of the opportunities and benefits to the public of the emerging science of synthetic biology, the challenges and risks, and the ethical boundaries that may be important to formulation of public policy with regard to this advancing science. The Commission also will hear more from the perspective of faith communities and others. The draft meeting agenda and other information about PCSBI, including information about access to the Web cast, will be available at http://www.bioethics.gov.

The Commission welcomes input from anyone wishing to provide public comment on any issue before it. Individuals who would like to provide public comment at the meeting should notify Ms. Diane Gianelli, Director of Communications, by telephone at 202-233-3960, or e-mail at diane.gianelli@bioethics.gov. Anyone planning to attend the meeting who needs special assistance, such as sign language interpretation or other reasonable accommodations, should also notify Ms. Gianelli in advance of the meeting. The Commission will make every effort to accommodate persons who need special assistance.

Written comments will also be accepted in accord with the Commission's existing request for public comment on the issues before the Commission. Please address written comments by e-mail to info@bioethics.gov, or by mail to the following address: Public Commentary, The Presidential Commission for the Study of Bioethical Issues, 1425 New York Ave., NW., Suite C-100, Washington, DC 20005. Comments will be publicly available, including any personally identifiable or confidential business information that they contain. Trade secrets should not be submitted.

Dated: August 17, 2010.
Valerie H. Bonham,
Executive Director, The Presidential Commission for the Study of Bioethical Issues.

[FR Doc. 2010-21267 Filed 8-25-10; 8:45 am]

BILLING CODE 4154-06-P